DEPARTMENT OF COMMERCE

National Oceanic and Atmospheric Administration

[I.D. 052306B]

New England Fishery Management Council; Public Meeting

AGENCY: National Marine Fisheries Service (NMFS), National Oceanic and Atmospheric Administration (NOAA), Commerce.

ACTION: Notice of a public meeting.

SUMMARY: The New England Fishery Management Council (Council) will hold a two-day Council meeting on June 13-15, 2006, to consider actions affecting New England fisheries in the exclusive economic zone (EEZ).

DATES: The meeting will be held on Tuesday, June 13 beginning at 9 a.m., and Wednesday and Thursday, June 14 and 15, beginning at 8:30 a.m. each day.

ADDRESSES: The meeting will be held at the Hyatt Regency Hotel, One Goat Island, Newport, RI 02940; telephone: (401) 851-1234.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, June 13, 2006

Following introductions, the Council will receive reports from the Council Chairman and Executive Director, the NMFS Regional Administrator, Northeast Fisheries Science Center and Mid-Atlantic Fishery Management Council liaisons, NOAA General Counsel and representatives of the U.S. Coast Guard, NMFS Enforcement and the Atlantic States Marine Fisheries Commission. During this morning session, the Council will receive a briefing from the Standard Bycatch Reporting Methodology (SBRM) Committee on progress to date on the development of an amendment to implement an SBRM process across all New England Fishery Management Council fishery management plans (FMPs). During the remainder of the day, the Council will review and approve a range of essential fish habitat (EFH) designation alternatives for inclusion in phase I of the Council's EFH Omnibus Amendment. This review also will include the prey species-related sections of the amendment.

Wednesday, June 14, 2006

During the morning session the Council's Research Steering Committee Chairman will report on the committee's recommendations concerning the use of information provided in several cooperative research final reports. The committee also will provide additional comments and recommendations on the process to review final reports. There will be a report on the results of the Transboundary Resource Assessment Committee's findings on the status of Atlantic herring. The Council will then discuss, review and approve the comments of its Magnuson-Stevens Act Committee on two reauthorization bills under consideration by the U.S. House of Representatives. Prior to a noontime break, there will be a briefing by fishing industry representatives on progress to date to develop an industry-funded vessel buyout program for New England groundfish vessels.

The afternoon session will begin with the presentation of a NOAA Fisheries Environmental Hero Award by Northeast Regional Administrator Pat Kurkul to the Cape Cod Commercial Hook Fishermen's Association. This report will be followed by an opportunity for public comments on items not listed on the agenda. Council Executive Director Paul Howard will then provide background information on the use of sector allocation as a fishery management tool. The Groundfish Committee will initiate the development of Council comments on the Cape Cod Commercial Hook Sector's operations plan for the 2006 fishing year. At the end of the day, there will be a report by several Council members on their personal observations concerning New Zealand's Quota Management System.

Thursday, June 15, 2006

Beginning with the morning session, the Council will spend the majority of the day on sea scallop management issues. There will be an update on the activities of the Scallop Survey Advisory Committee, a report from the Scientific and Statistical Committee on updated scallop biological reference points and consideration and likely approval of alternatives to be considered and analyzed in the Draft Supplemental Environmental Impact Statement to accompany Amendment 11 to the Scallop Fishery Management Plan. Finally, the Council will discuss and intends to reaffirm its control date for the hagfish fishery.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: May 24, 2006.
James P. Burgess,
Acting Director, Office of Sustainable Fisheries, National Marine Fisheries Service.

[FR Doc. E6-8247 Filed 5-26-06; 8:45 am]

BILLING CODE 3510-22-S